DEPARTMENT OF AGRICULTURE

Animal and Plant Health Inspection Service

[Docket No. 04-074-1]

Confinement of Genetically Engineered Crops During Field Testing; Workshop

AGENCY: Animal and Plant Health Inspection Service, USDA.

ACTION: Notice of meeting.

SUMMARY: This is to notify parties involved in those fields associated with the confinement of genetically engineered crops, as well as other interested persons, that a workshop will be held to review past results and obtain an update on the most recent scientific results relevant to biological dispersal and confinement of genetically engineered crops during field testing. The workshop is being organized by the Animal and Plant Health Inspection Service.

DATES: The workshop will be held September 13 through 15, 2004, from 8:30 a.m. to 5 p.m. each day. The sessions on September 13 and 14, 2004, will include panels of invited scientific experts. The session on September 15, 2004, will be open to the public.

ADDRESSES: The workshop will be held at the USDA Center at Riverside, 4700 River Road, Riverdale, MD.

FOR FURTHER INFORMATION CONTACT: Ms. Robyn Rose, Biotechnology Regulatory Services, APHIS, 4700 River Road Unit 147, Riverdale, MD 20737-1236; (301) 734-0489, or e-mail: Robyn.I.Rose@aphis.usda.gov.

SUPPLEMENTARY INFORMATION: The regulations in 7 CFR part 340, “Introduction of Organisms and Products Altered or Produced Through Genetic Engineering Which Are Plant Pests or Which There Is Reason to Believe Are Plant Pests,” (referred to below as the regulations) regulate, among other things, the introduction (importation, interstate movement, or release into the environment) of organisms and products altered or produced through genetic engineering that are plant pests or that there is reason to believe are plant pests. Such genetically engineered organisms and products are considered “regulated articles.”

Field tests of genetically engineered crops planted under an Animal and Plant Health Inspection Service (APHIS) permit as plant-made pharmaceuticals (PMPs) and plant-made industrials (PMIs) are currently being conducted under the regulations. In order to provide a forum for the discussion of past and current information relevant to biological and physical factors that influence the design, implementation, efficacy, and feasibility of measures used to confine transgenic plants and their progeny to the authorized field sites, APHIS is organizing a workshop. This workshop will provide a forum for discussing measures that can be taken to limit gene flow beyond the authorized site, commingling with other crops, and persistence of transgenic plants in the environment following termination of the field trial. The workshop will primarily focus on plants most frequently used as PMPs and PMIs, such as corn, barley, rice, safflower, and tobacco, with three break-out groups that will examine wind pollination of crops using corn as a model, self-pollinated crops using rice as a model, and insect-pollinated crops using safflower as a model.

This workshop is scheduled for September 13 through 15, 2004. The sessions on the first 2 days of the workshop will include panels of invited scientific experts. The third day will be open to the public and the results of the panel discussions will be summarized. Preregistration is required for all those who wish to attend the third day of the workshop. The deadline for preregistration is September 10, 2004. Information regarding the meeting and registration instructions are available on the Internet at http://www.aphis.usda.gov/brs/new_info.html. Questions that will be discussed during the workshop may be viewed on the Internet at http://www.aphis.usda.gov/brs/confine_workshop/confine_questions.pdf.

The third day of the workshop will be open to the public. Persons interested in making an oral presentation during the third day of the workshop related to the topic of the workshop should submit a brief written statement or abstract of the science they wish to present, the name and address of each person who will participate in the presentation, and an estimate of the approximate length of time needed to make the presentation. This information should be submitted to the person listed under FOR FURTHER INFORMATION CONTACT no later than September 6, 2004. The number of oral presentations on the third day of the workshop and the time allocated for each may be limited, depending upon the number of requests. Send all statements or abstracts to the person listed under FOR FURTHER INFORMATION CONTACT. Please state that your statement or abstract refers to Docket No. 04-074-1. If you use e-mail, your comment must be contained in the body of your message or sent as an attachment in WordPerfect or Microsoft Word format. Please include your name and address in your message and “Docket No. 04-074-1” on the subject line.

Following the workshop, a proceedings will be published that will summarize the information gathered during the workshop. The proceedings will outline methods for physical, temporal, spatial, and biological confinement of transgenes incorporated into wind-pollinated, insect-pollinated, and primarily self-pollinating crops along with information regarding their efficacy and feasibility of implementation. The effects of scale and use of models to predict or compare efficacy of options will also be addressed. Information gathered during the workshop will be summarized to illustrate the interaction of available tools for gene confinement to form a comprehensive and flexible approach to field testing. Scientific data and references will be included in a bibliography as part of the proceedings.

Parking and Security Procedures

Please note that a fee of $2.25 is required to enter the parking lot at the USDA Center at Riverside. The machine accepts $1 bills or quarters.

Upon entering the building, visitors should inform security personnel that they are attending the Crop Field Testing workshop. Identification is required. Security personnel will direct visitors to the sign-in tables located outside of the Conference Center. All participants must sign in upon arrival. Conference badges must be worn throughout the day.

Done in Washington, DC, this 17th day of August 2004.
Kevin Shea,
Acting Administrator, Animal and Plant Health Inspection Service.

[FR Doc. 04-19235 Filed 8-20-04; 8:45 am]

BILLING CODE 3410-34-P